DEPARTMENT OF HEALTH AND HUMAN SERVICES

Centers for Medicare & Medicaid Services

[Document Identifier: CMS-3070G-I, CMS-10565]

Agency Information Collection Activities: Submission for OMB Review; Comment Request

AGENCY: Centers for Medicare & Medicaid Services, HHS.

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by April 29, 2019.

ADDRESSES: When commenting on the proposed information collections, please reference the document identifier or OMB control number. To be assured consideration, comments and recommendations must be received by the OMB desk officer via one of the following transmissions: OMB, Office of Information and Regulatory Affairs, Attention: CMS Desk Officer, Fax Number: (202) 395-5806 OR Email: OIRA_submission@omb.eop.gov.

To obtain copies of a supporting statement and any related forms for the proposed collection(s) summarized in this notice, you may make your request using one of following:

1. Access CMS' website address at website address at https://www.cms.gov/Regulations-and-Guidance/Legislation/PaperworkReductionActof1995/PRA-Listing.html.

1. Email your request, including your address, phone number, OMB number, and CMS document identifier, to Paperwork@cms.hhs.gov.

2. Call the Reports Clearance Office at (410) 786-1326.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Extension of a currently approved collection; Title of Information Collection: ICF/IID Survey Report Form and Supporting Regulations; Use: The information collected with forms 3070G-I is used to determine the level of compliance with Intermediate Care Facilities for Individuals with Intellectual Disabilities (ICF/IID) CoPs necessary to participate in the Medicare/Medicaid program. Information needed to monitor the State's performance as well as the ICF/IID program in general, is available to CMS only through the use of information abstracted from the survey report form. The form serves as a coding worksheet designed to facilitate data entry and retrieval into the Automated Survey Processing Environment Suite (ASPEN) in the State and at the CMS regional offices. Form Number: CMS-3070G-I (OMB control number: 0938-0062); Frequency: Reporting—Yearly; Affected Public: Business or other for-profits and Not-for-profit institutions; Number of Respondents: 6,100; Total Annual Responses: 6,100; Total Annual Hours: 18,300. (For policy questions regarding this collection contact Melissa Rice at 410-786-3270.)

2. Type of Information Collection Request: Reinstatement with change of a previously approved collection; Title of Information Collection: Initial and Renewal Model of Care Submissions Off-cycle Submission of Summaries of Model of Care; Use: Section 3205(e) of the Affordable Care Act requires that all skilled nursing facilities (SNPs) be approved by NCQA. This approval is based on NCQA's evaluation of SNPs' MOC narratives using MOC scoring guidelines. The Bipartisan Budget Act (BBA) of 2018 Section 50311 modified the MOC requirements for C-SNPs in section 1859 (b)(6)(B)(iii) of the Act. Specifically, section (B)(iv) requires that beginning in 2020 and subsequent years, C-SNPs will submit MOCs annually for evaluation and approval.

SNPs are a specific type of Medicare Advantage coordinated care plan that provide targeted care to individuals with unique special need. SNPs are required to submit Models of Care (MOC) as a component of the Medicare Advantage application process through the Health Plan Management System (HPMS). NCQA and CMS will use information collected in the SNP Application HPMS module to review and approve MOC narratives in order for a Medicare Advantage Organization (MAO) to operate as a new SNP in the upcoming calendar year(s). This information is used by CMS as part of the Medicare Advantage SNP application process. NCQA and CMS will use information collected in the Renewal Submission section of the HPMS MOC module to review and approve the MOC narrative in order for the SNP to receive a new approval period and operate in the upcoming calendar year(s). NCQA and CMS will use information in the Off-Cycle Submission section of the HPMS MOC module to review changes made to an approved MOCs by SNPs. It is the responsibility of SNPs to notify CMS of significant changes to their MOC in HPMS. NCQA will conduct a review for CMS to determine if the changes made to a MOC are consistent with the overall approved MOC before SNPs may implement the changes. Form Number: CMS-10565 (OMB control number 0938-1296); Frequency: Occasionally; Affected Public: State, Local, and Tribal Governments; Number of Respondents: 323; Total Annual Responses: 323; Total Annual Hours: 1856. (For policy questions regarding this collection contact Donna B. Williamson at 410-786-4647.)

Dated: March 25, 2019.
William N. Parham, III,
Director, Paperwork Reduction Staff, Office of Strategic Operations and Regulatory Affairs.

[FR Doc. 2019-05975 Filed 3-27-19; 8:45 am]

BILLING CODE 4120-01-P